DEPARTMENT OF DEFENSE

Department of the Army

Release of the Notice of Availability (NOA) on the Final Environmental Impact Statement (FEIS) on the Disposal and Reuse of the Oakland Army Base, Oakland, California

AGENCY: Department of the Army, DoD.

ACTION: Notice of Availability.

SUMMARY: The Army prepared this FEIS in compliance with the National Environmental Policy Act (NEPA) of 1969 and the President's Council on Environmental Quality. The closure of the Oakland Army Base (OARB), Oakland, California, was mandated in accordance with the recommendations of the Defense Base Closure and Realignment Act of 1990, Public Law 101-510, as amended (the “BRAC law”). The July 27, 2001, edition of the Federal Register (66 FR 39153-54 and 39162) contained the NOA for the Army's OARB Supplemental Draft EIS.

DATES: The review period for the Final EIS will end 30 days after publication of the Notice of Availability in the Federal Register by the U.S. Environmental Protection Agency.

ADDRESSES: Direct questions and/or written comments regarding the Final EIS to, or a request for a copy of the document from: Mr. Chuck Hubbard, U.S. Army Corps of Engineers, Sacramento District (CESPK-PD) 1325 J Street, Sacramento, California 95814-2922.

FOR FURTHER INFORMATION CONTACT: Mr. Chuck Hubbard at (916) 557-6958; by facsimile at (916) 557-7850; or by e-mail at CHubbard@spk.usace.army.mil.

SUPPLEMENTARY INFORMATION: The FEIS analyzes three alternative courses of action with respect to the disposal and subsequent reuse of the 425 acres (371 land acres and 54 submerged land acres) comprising the OARB: (1) The no action disposal alternative, under which the property would be maintained in a caretaker status after closure; (2) the unencumbered disposal alternative, under which the Army would transfer the property without encumbrances, such as environmental restrictions, land use controls, and easements; and (3) the encumbered disposal alternative, under which the Army would transfer the property with various environmental restrictions, land use controls, and easements, limiting the future use of the property. The FEIS also analyzes the potential environmental and socioeconomic consequences of a range of community reuse alternatives: (1) Low intensity reuse alternative; (2) low-medium intensity reuse alternative, (3) medium intensity reuse alternative; (4) medium-high intensity reuse alternative (5) medium-high/high intensity reuse alternative; (6) high intensity reuse alternative; and (7) very-high intensity reuse alternative.

The FEIS concludes the no action alternative is not reasonable because the BRAC law mandates closure of the Oakland Army Base, and the Army has no requirement to retain the property. This FEIS also concludes that the unencumbered disposal alternative is not feasible given environmental conditions and legal requirements.

The Army's preferred alternative course of action is the encumbered disposal of excess property. Possible encumbrances include: covenants and restrictions pertaining to asbestos-containing material; lead-based paint; biological resources; historic properties; ground water usage; excavations; future remedial activities after transfer; infrastructure easements; and rights-of-way.

The FIES analyzes community reuse of the OARB property as a secondary action resulting from closure and disposal by the Army. While the Army does not control the community's reuse of the property, NEPA requires the Army to analyze the reasonable foreseeable impacts of its disposal action. The local community established the Oakland Base Reuse Authority (OBRA) to develop and implement a reuse plan for the installation. Approval and implementation of the reuse plan are within the discretion of the OBRA.

Comments on the FEIS, received during the 30-day public comment period, will be considered in preparing the Army's Record of Decision.

Copies the FEIS are available for review at the following libraries: the Oakland Public Library Main Branch, Science, Social Science and Documents Section, 125 Fourteenth Street, Oakland, California 94612; the West Oakland Branch Library, 1801 Adeline Street, Oakland, California 94607; and the Base Transition Office, 2475-D West 12th Street, Oakland, California 94607.

Dated: December 21 2001.
Raymond J. Fatz,
Deputy Assistant Secretary of the Army, (Environment, Safety and Occupational Health), OASA(I&E).

[FR Doc. 02-77 Filed 1-2-02; 8:45 am]

BILLING CODE 3710-08-M